DEPARTMENT OF THE INTERIOR

Bureau of Land Management

[NV-050-5853-EU]

Notice of Availability of the Final Environmental Impact Statement for the Las Vegas Valley Disposal Area

AGENCY: Bureau of Land Management, Interior.

Cooperating Agencies: U.S. Air Force, Nellis Air Force Base; U.S. Fish and Wildlife Service, Desert National Wildlife Refuge Complex; Clark County Regional Flood Control District; Clark County Comprehensive Planning; City of Henderson; City of Las Vegas; City of North Las Vegas.

ACTION: Notice of availability.

SUMMARY: Pursuant to the National Environmental Policy Act (NEPA) of 1969 and the Federal Land Policy and Management Act (FLPMA) of 1976, the Bureau of Land Management (BLM) has prepared a Final Environmental Impact Statement (FEIS) with the specific purpose to enable BLM to transfer title or authorize uses of public land in the Las Vegas Valley. The project area consists of public lands identified for disposal within the boundary established by the Southern Nevada Public Lands Management Act (SNPLMA) (Pub. L. 105-263), and as expanded/amended by the Clark County Conservation of Public Land and Natural Resources Act of 2002 (Clark County Act) (Pub. L. 107-282).

DATES: BLM will sign the Record of Decision (ROD) for the FEIS the same day the Notice of Availability for the FEIS is published by the Environmental Protection Agency (EPA) in the Federal Register. The ROD will be provided with the FEIS and the signed copy of the ROD will be posted on the official Web site on the day of signature. Therefore, the 30-day period of availability will also serve as the appeal period for the entire FEIS, as provided for by 40 CFR 1506.10(b)(2). Appeal rights will be explained in the ROD as well as the cover page of the FEIS. No actions can occur until the 30-day period expires.

ADDRESSES: You may submit comments on the FEIS for the official record to: E-mail: jsteinme@nv.blm.gov. Fax: (702) 515-5155. Mail: Bureau of Land Management, Las Vegas Field Office, 4701 North Torrey Pines Drive, Las Vegas, NV 89130-2301. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety. Copies of the FEIS are available in the BLM Las Vegas Field Office at the above address during office hours (7:30 to 4:15 p.m., Monday through Friday, except holidays). Interested persons may also review the FEIS on the Internet at http://www.nv.blm.gov/lvdiseis.

FOR FURTHER INFORMATION CONTACT: Jeff Steinmetz, BLM Las Vegas Field Office, telephone (702) 515-5097; e-mail jsteinme@nv.blm.gov.

SUPPLEMENTARY INFORMATION: The FEIS complies with NEPA, FLPMA, and BLM management policies as defined in the Las Vegas RMP of 1998. The FEIS contains a summary of the alternatives and resulting impacts of implementing land disposal actions, identifies the preferred alternative (Conservation Transfer), and contains a summary of written and verbal comments received during the 60-day public review period for the Draft Environmental Impact Statement (DEIS) and responses to the substantive issues raised during the review. The DEIS was released for public review on September 10, 2004.

Shortly after approval of SNPLMA, the BLM received a rapid increase in the requests for public land disposal. The Clark County Act significantly increased the amount of land available for disposal by adding approximately 22,000 acres to the Las Vegas Valley Disposal Area by amending the boundary defined and approved in SNPLMA. The rapid disposal rate and additional lands created the need to augment the impact analysis conducted for the Las Vegas Resource Management Plan (RMP), signed October 5, 1998. The FEIS addresses the intent of Congress, as manifested in the SNPLMA and the Clark County Act, to provide public land for local community development. This does not preclude other authorized uses of public lands such as applications for Rights-of-Way, Leases, and Recreation and Public Purpose uses pending disposal of public lands located in Clark County, Nevada.

The FEIS analyzes three alternatives. The alternatives include complete disposal, a disposal implementation option (Conservation Transfer) that addresses sensitive environmental resources, and a no action alternative as required by NEPA. The no action alternative to land disposal is a continuation of realty management as specified in the RMP. Comments that were received on the DEIS from the public and internal BLM review comments were incorporated into the FEIS where appropriate. Major resource issues addressed in the FEIS include air quality, surface water hydrology and water quality, water supply and demand, protected and sensitive plant and wildlife species, archaeological and historic sites, paleontological resources, socio-economics, recreation opportunities, and visual characteristics.

BLM intends to proceed with the land sale scheduled for February 2, 2005 (see Notice of Realty Action, Federal Register, Vol. 69, No. 218, Friday, November 12, 2004, Notices, pages 65450-65454), based in part on the Record of Decision for the Land Disposal FEIS. Copies of the Las Vegas Valley Disposal FEIS have been sent to affected Federal, State and local government agencies and to interested parties.

Mark T. Morse,
Field Manager, Las Vegas.

[FR Doc. 04-27487 Filed 12-15-04; 8:45 am]

BILLING CODE 4310-HC-P